ENVIRONMENTAL PROTECTION AGENCY

[ER-FRL-6652-6]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-AFS-J65018-MT Rating EC2, Sheep Creek Salvage Project, Moving Current Resource Conditions and Trends Toward Desired Future Conditions, Beaverhead-Deerlodge National Forest, Beaverhead County, MT.

Summary: EPA expressed concerns about potential water effects of proposed salvage harvests and noted the need for consistency with TMDL development for Trail Creek. EPA recommended additional watershed restoration components and improved grazing management to assure Sheep Creek Salvage activities can occur consistent with TMDLs and long-term water quality restoration.

ERP No. D-NAS-A12042-00 Rating LO, Programmatic EIS—Mars Exploration Program (MEP) Implementation.

Summary: EPA has no objection to the action as proposed.

ERP No. D-NSF-A99224-00 Rating LO, Development and Implementation of Surface Traverse Capabilities in Antarctia Comprehensive Environmental Evaluation, Antarctica.

Summary: EPA has no objections to the proposed action.

Final EISs

ERP No. F-BOP-K81025-CA, Fresno Federal Correctional Facility Development, Funding, Orange Cove, Fresno County, CA.

Summary: No formal comment letter was sent to the preparing agency.

ERP No. F-FAA-G11043-LA, Adoption—2nd Armored Cavalry Regiment Transformation and Installation Mission Support, Joint Readiness Training Center (JRT) Stryker Bridge Combat Team, Long-Term Military Training Use of Kisatchie National Forest Lands, Fort Polk, LA.

Summary: No formal comment letter was sent to the preparing agency.

ERP No. F-GSA-D89079-DC, Southeast Federal Center Development, Land Transfer for Mixed-Use Development of Residences, Offices, Shops, a Waterfront Park and Cultural Amenities, Implementation, DC.

Summary: EPA has no objection to the proposed action.

ERP No. F-HUD-C81018-NY, Generic EIS—World Trade Center Memorial and Redevelopment Plan, to Remember, Rebuild and Renew what was Lost on September 11, 2001, Construction in the Borough of Manhattan, New York County, NY.

Summary: EPA expressed continued concerns regarding air quality impacts from construction. EPA requested that the ROD be definitive on the utilization of electric construction equipment; include a commitment to implement all Environmental Performance Commitments; contain an evaluation of the cumulative NOX emissions and the result of the final statement of Conformity and; commit to emission offset measures pending conformity demonstration with the New York State SIP.

ERP No. F-USA-E11052-GA, Digital Multi-Purpose Range Complex at Fort Benning, Construction, Operation and Maintenance, Gunnery Training Facilities for the Bradley Fighting Vehicle (BFV) and the Abrams M1A1 Tank System (Tank), Fort Benning, GA.

Summary: EPA continues to express concern regarding wetland/water quality impacts and erosion/sediment control.

Dated: June 15, 2004.
Ken Mittelholtz,
Environmental Protection Specialist, Office of Federal Activities.

[FR Doc. 04-13860 Filed 6-17-04; 8:45 am]

BILLING CODE 6560-50-P